FEDERAL RESERVE SYSTEM

Proposed Agency Information Collection Activities; Comment Request

AGENCY: Board of Governors of the Federal Reserve System.

SUMMARY: On June 15, 1984, the Office of Management and Budget (OMB) delegated to the Board of Governors of the Federal Reserve System (Board or Federal Reserve) its approval authority under the Paperwork Reduction Act (PRA) to approve of and assign OMB control numbers to collection of information requests and requirements conducted or sponsored by the Board. Board-approved collections of information are incorporated into the official OMB inventory of currently approved collections of information. Copies of the Paperwork Reduction Act Submission, supporting statements and approved collection of information instruments are placed into OMB's public docket files. The Federal Reserve may not conduct or sponsor, and the respondent is not required to respond to, an information collection that has been extended, revised, or implemented on or after October 1, 1995, unless it displays a currently valid OMB control number.

DATES: Comments must be submitted on or before April 5, 2016.

ADDRESSES: You may submit comments, identified by IHC Reporting Requirements, by any of the following methods:

• Agency Web site: http://www.federalreserve.gov. Follow the instructions for submitting comments at http://www.federalreserve.gov/apps/foia/proposedregs.aspx.

• Federal eRulemaking Portal: http://www.regulations.gov. Follow the instructions for submitting comments.

• Email: regs.comments@federalreserve.gov. Include OMB number in the subject line of the message.

• FAX: (202) 452-3819 or (202) 452-3102.

• Mail: Robert deV. Frierson, Secretary, Board of Governors of the Federal Reserve System, 20th Street and Constitution Avenue NW., Washington, DC 20551.

All public comments are available from the Board's Web site at http://www.federalreserve.gov/apps/foia/proposedregs.aspx as submitted, unless modified for technical reasons. Accordingly, your comments will not be edited to remove any identifying or contact information. Public comments may also be viewed electronically or in paper form in Room 3515, 1801 K Street (between 18th and 19th Streets NW.) Washington, DC 20006 between 9:00 a.m. and 5:00 p.m. on weekdays.

Additionally, commenters may send a copy of their comments to the OMB Desk Officer—Shagufta Ahmed—Office of Information and Regulatory Affairs, Office of Management and Budget, New Executive Office Building, Room 10235 725 17th Street NW., Washington, DC 20503 or by fax to (202) 395-6974.

FOR FURTHER INFORMATION CONTACT: A copy of the PRA OMB submission, including the proposed reporting form and instructions, supporting statement, and other documentation will be placed into OMB's public docket files, once approved. These documents will also be made available on the Board's public Web site at: http://www.federalreserve.gov/apps/reportforms/review.aspx or may be requested from the agency clearance officer, whose name appears below.

Federal Reserve Board Clearance Officer—Nuha Elmaghrabi—Office of the Chief Data Officer, Board of Governors of the Federal Reserve System, Washington, DC 20551 (202) 452-3829. Telecommunications Device for the Deaf (TDD) users may contact (202) 263-4869, Board of Governors of the Federal Reserve System, Washington, DC 20551.

SUPPLEMENTARY INFORMATION:

Request for Comment on Information Collection Proposals

The following information collections, which are being handled under this delegated authority, have received initial Board approval and are hereby published for comment. At the end of the comment period, the proposed information collections, along with an analysis of comments and recommendations received, will be submitted to the Board for final approval under OMB delegated authority. Comments are invited on the following:

a. Whether the proposed collection of information is necessary for the proper performance of the Federal Reserve's functions; including whether the information has practical utility;

b. The accuracy of the Federal Reserve's estimate of the burden of the proposed information collection, including the validity of the methodology and assumptions used;

c. Ways to enhance the quality, utility, and clarity of the information to be collected;

d. Ways to minimize the burden of information collection on respondents, including through the use of automated collection techniques or other forms of information technology; and

e. Estimates of capital or start-up costs and costs of operation, maintenance, and purchase of services to provide information.

Proposal to approve under OMB delegated authority the revision, without extension, of the following reports:

1. Report title: Consolidated Financial Statements for Holding Companies, Parent Company Only Financial Statements for Large Holding Companies, Parent Company Only Financial Statements for Small Holding Companies, Financial Statements for Employee Stock Ownership Plan Holding Companies.¹

¹ The family of FR Y-9 reporting forms also contains the Parent Company Only Financial Statements for Small Holding Companies (FR Y-9SP), the Financial Statements for Employee Stock Ownership Plan Holding Companies (FR Y-9ES), and the Supplement to the Consolidated Financial Statements for Holding Companies (FR Y-9CS) which are not being revised.

Agency form number: FR Y-9C, FR Y-9LP.

OMB control number: 7100-0128.

Frequency: Quarterly, annually.

Reporters: Bank holding companies (BHCs), savings and loan holding companies (SLHCs), securities holding companies (SHCs), and U.S. intermediate holding companies (IHCs), (collectively, “holding companies”).

Estimated annual reporting hours: FR Y-9C (non-Advanced Approaches HCs or other respondents): 131,777 hours; FR Y-9C (Advanced Approaches HCs or other respondents): 2,500 hours; FR Y-9LP: 17,262 hours.

Estimated average hours per response: FR Y-9C (non-Advanced Approaches HCs or other respondents): 50.84 hours; FR Y-9C (Advanced Approaches HCs or other respondents): 52.09 hours; FR Y-9LP: 5.25 hours.

Number of respondents: FR Y-9C (non-Advanced Approaches HCs or other respondents): 648; FR Y-9C (Advanced Approaches HCs or other respondents): 12; FR Y-9LP: 822.

General description of report: This information collection is mandatory pursuant to section 5(c) of the BHC Act (12 U.S.C. 1844(c)), section 10 of Home Owners' Loan Act (HOLA) (12 U.S.C. 1467a(b)), 12 U.S.C. 1850a(c)(1), section 165 of the Dodd-Frank Act (12 U.S.C. 5365), and section 252.153(b)(2) of Regulation YY (12 CFR 252.153(b)(2)). Confidential treatment is not routinely given to the financial data in this report. However, confidential treatment for the reporting information, in whole or in part, can be requested in accordance with the instructions to the form, pursuant to sections (b)(4), (b)(6), or (b)(8) of the Freedom of Information Act (FOIA) (5 U.S.C. 522(b)(4), (b)(6), and (b)(8)).

Abstract: Pursuant to the Bank Holding Company Act of 1956, as amended, and HOLA, the Federal Reserve requires HCs to provide standardized financial statements to fulfill the Federal Reserve's statutory obligation to supervise these organizations. HCs file the FR Y-9C and FR Y-9LP quarterly, the FR Y-9SP semiannually, and the FR Y-9ES annually.

2. Report title: Financial Statements of U.S. Nonbank Subsidiaries of U.S. Holding Companies and the Abbreviated Financial Statements of U.S. Nonbank Subsidiaries of U.S. Holding Companies.

Agency form number: FR Y-11, FR Y-11S.

OMB control number: 7100-0244.

Frequency: Quarterly and annually.

Reporters: Holding companies.

Estimated annual reporting hours: FR Y-11 (quarterly): 19,502; FR Y-11 (annual): 2,258; FR Y-11S: 473.

Estimated average hours per response: FR Y-11 (quarterly): 6.8; FR Y-11 (annual): 6.8; FR Y-11S: 1.

Number of respondents: FR Y-11 (quarterly): 717; FR Y-11 (annual): 332; FR Y-11S: 473.

General description of report: This information collection is mandatory pursuant to section 5(c) of the BHC Act (12 U.S.C. 1844(c)), section 10 of Home Owners' Loan Act (HOLA) (12 U.S.C. 1467a(b)), 12 U.S.C. 1850a(c)(1), section 165 of the Dodd-Frank Act (12 U.S.C. 5365), and section 252.153(b)(2) of Regulation YY (12 CFR 252.153(b)(2)). Overall, the Federal Reserve does not consider these data to be confidential. However, a respondent may request confidential treatment pursuant to sections (b)(4), (b)(6), and (b)(8) of the Freedom of Information Act (5 U.S.C. 552(b)(4), (b)(6), (b)(8)). The applicability of these exemptions would need to be determined on a case-by-case basis.

Abstract: The FR Y-11 reporting forms collect financial information for individual non-functionally regulated U.S. nonbank subsidiaries of domestic holding companies (i.e., bank holding companies, savings and loan holding companies, and securities holding companies). Holding companies file the FR Y-11 on a quarterly or annual basis or the FR Y-11S annually predominantly based on asset size thresholds, and for the FR Y-11S, based on an additional threshold related to the percentage of consolidated assets of the top-tier organization. The FR Y-11 data are used with other holding company data to assess the condition of holding companies that are heavily engaged in nonbanking activities and to monitor the volume, nature, and condition of their nonbanking operations.

3. Report title: Financial Statements of Foreign Subsidiaries of U.S. Banking Organizations and the Abbreviated Financial Statements of Foreign Subsidiaries of U.S. Banking Organizations.

Agency form number: FR 2314 and FR 2314S.

OMB control number: 7100-0073.

Frequency: Quarterly and semiannually.

Reporters: U.S. state member banks, holding companies, Edge or agreement corporations, and U.S. intermediate holding companies (IHCs).

Estimated annual reporting hours: FR 2314 (quarterly): 18,427; FR 2314 (annual): 2,640; FR 2314S: 480.

Estimated average hours per response: FR 2314 (quarterly): 6.6; FR 2314 (annual): 6.6; FR 2314S: 1.

Number of respondents: FR 2314 (quarterly): 698; FR 2314 (annual): 400; FR 2314S: 480.

General description of report: This information collection is mandatory pursuant to 12 U.S.C. 324, 602, 625, 1844(c), 1467a(b), section 165 of the Dodd-Frank Act (12 U.S.C. 5365), and section 252.153(b)(2) of Regulation YY (12 CFR 252.153(b)(2)). Overall, the Federal Reserve does not consider these data to be confidential. However, a respondent may request confidential treatment pursuant to sections (b)(4), (b)(6), and (b)(8) of the Freedom of Information Act (5 U.S.C. 552(b)(4), (b)(6), (b)(8)). The applicability of these exemptions would need to be determined on a case-by-case basis.

Abstract: The FR 2314 reporting forms collect financial information for non-functionally regulated direct or indirect foreign subsidiaries of U.S. state member banks (SMBs), Edge and agreement corporations, and holding companies (i.e., bank holding companies, savings and loan holding companies, and securities holding companies). Parent organizations (SMBs, Edge and agreement corporations, or holding companies) file the FR 2314 on a quarterly or annual basis or the FR 2314S annually based predominantly on asset size thresholds, and for the FR 2314S, based on an additional threshold related to the percentage of consolidated assets of the top-tier organization. The FR 2314 data are used to identify current and potential problems at the foreign subsidiaries of U.S. parent companies, to monitor the activities of U.S. banking organizations ² in specific countries, and to develop a better understanding of activities within the industry, in general, and of individual institutions, in particular.

² For purposes of this notice, banking organizations include bank holding companies, savings and loan holding companies, and state member banks that are subject to the market risk rule.

4. Report title: Consolidated Bank Holding Company Report of Equity Investments in Nonfinancial Companies, and the Annual Report of Merchant Banking Investments Held for an Extended Period.

Agency form number: FR Y-12 and FR Y-12A.

OMB control number: 7100-0300.

Frequency: Quarterly, semi-annually, and annually.

Reporters: Bank holding companies (BHCs), financial holding companies (FHCs), U.S. intermediate holding companies (IHCs), and savings and loan holding companies (SLHCs).

Estimated annual reporting hours: FR Y-12 Initial: 1,716 hours, FR Y-12 Ongoing: 2,508 hours, FR Y-12A Initial: 182 hours, FR Y-12A Ongoing: 224 hours.

Estimated average hours per response: FR Y-12 Initial: 33 hours, FR Y-12 Ongoing: 16.5 hours, FR Y-12A Initial: 14 hours, FR Y-12A Ongoing: 7 hours.

Number of respondents: FR Y-12 Initial: 13, FR Y-12 Ongoing: 41 FR Y-12A Initial: 13, FR Y-12A Ongoing: 32.

General description of report: This collection of information is mandatory pursuant to section 5(c) of the BHC Act (12 U.S.C. 1844(c)), section 10 of HOLA (12 U.S.C. 1467a(b)), section 165 of the Dodd-Frank Act (12 U.S.C. 5365), and section 252.153(b)(2) of Regulation YY (12 CFR 252.153(b)(2)). The FR Y-12 data are not considered confidential, however, a BHC or SLHC may request confidential treatment pursuant to Sections (b)(4) of the Freedom of Information Act (FOIA) (5 U.S.C. 552(b)(4)). The FR Y-12A data are considered confidential pursuant to sections (b)(4) and (b)(8) of the Freedom of Information Act (5 U.S.C. 552(b)(4) and (b)(8)).

Abstract: The FR Y-12 collects information from certain domestic BHCs and SLHCs on their equity investments in nonfinancial companies on four schedules: Type of Investments, Type of Security, Type of Entity within the Banking Organization, and Nonfinancial Investment Transactions during Reporting Period. The FR Y-12A collects data from financial holding companies (FHCs) which hold merchant banking investments that are approaching the end of the holding period permissible under Regulation Y. These data serve as an important risk-monitoring device for FHCs active in this business line by allowing supervisory staff to monitor an FHC's activity between review dates. They also serve as an early warning mechanism to identify FHCs whose activities in this area are growing rapidly and therefore warrant special supervisory attention.

5. Report title: Capital Assessments and Stress Testing information collection.

Agency form number: FR Y-14A/Q/M.

OMB control number: 7100-0341.

Frequency: Annually, semi-annually, quarterly, and monthly.

Reporters: Any top-tier bank holding company (BHC), and U.S. intermediate holding companies (IHC), (other than an FBO), that has $50 billion or more in total consolidated assets, as determined based on: (i) The average of the BHC's or IHC's total consolidated assets in the four most recent quarters as reported quarterly on the BHC's or IHC's Consolidated Financial Statements for Bank Holding Companies (FR Y-9C) (OMB No. 7100-0128); or (ii) the average of the BHC's or IHC's total consolidated assets in the most recent consecutive quarters as reported quarterly on the BHC's or IHC's FR Y-9Cs, if the BHC or IHC has not filed an FR Y-9C for each of the most recent four quarters. Reporting is required as of the first day of the quarter immediately following the quarter in which it meets this asset threshold, unless otherwise directed by the Federal Reserve.

Estimated annual reporting hours: FR Y-14A: Summary, 94,576 hours; Macro scenario, 2,852 hours; Operational Risk, 552 hours; Regulatory capital transitions; 1,058 hours, Regulatory capital instruments, 920 hours. FR Y-14Q: Securities, 2,208 hours; Retail, 2,944 hours, Pre-provision net revenue (PPNR), 130,824 hours; Corporate loans, 12,144 hours; CRE, 11,868; Trading, 169,488 hours; Regulatory capital transitions, 4,232 hours; Regulatory capital instruments, 7,360 hours; Operational risk, 9,200 hours; Mortgage Servicing Rights (MSR) Valuation, 2,400 hours; Supplemental, 736 hours; and Retail Fair Value Option/Held for Sale (Retail FVO/HFS), 2,240 hours; CCR, 40,656 hours; and Balances, 2,944 hours. FR Y-14M: 1st lien mortgage, 250,920 hours; Home equity, 244,800 hours; and Credit card, 189,720 hours. FR Y-14 On-going automation revisions, 15,840 hours. FR Y-14 implementation, 93,600 hours.

Estimated average hours per response: FR Y-14A: Summary, 1,028 hours; Macro scenario, 31 hours; Operational Risk, 12 hours; Regulatory capital transitions, 23 hours; Regulatory capital instruments, 20 hours. FR Y-14Q: Securities, 12 hours; Retail, 16 hours; PPNR, 711 hours; Corporate loans, 69 hours; CRE, 69 hours; Trading, 1,926 hours; Regulatory capital transitions, 23 hours; Regulatory capital instruments, 40 hours; Operational risk, 50 hours; MSR Valuation, 24 hours; Supplemental, 4 hours; and Retail FVO/HFS, 16 hours; CCR, 508 hours; and Balances, 16 hours. FR Y-14M: 1st lien mortgage, 510 hours; Home equity, 510 hours; and Credit card, 510 hours. FR Y-14 On-Going automation revisions, 480 hours. FR Y-14 Implementation, 7,200 hours.

Number of respondents: 46.

General description of report: This collection of information is mandatory pursuant to section 5(c) of the BHC Act (12 U.S.C. 1844(c)), section 165 of the Dodd-Frank Act (12 U.S.C. 5365), and section 252.153(b)(2) of Regulation YY (12 CFR 252.153(b)(2)).

As these data are collected as part of the supervisory process, they are subject to confidential treatment under exemption 8 of the Freedom of Information Act (FOIA) (5 U.S.C. 552(b)(8)). In addition, commercial and financial information contained in these information collections may be exempt from disclosure under exemption 4 of FOIA (5 U.S.C. 552(b)(4)), if disclosure would likely have the effect of (1) impairing the government's ability to obtain the necessary information in the future, or (2) causing substantial harm to the competitive position of the respondent. Such exemptions would be made on a case-by-case basis.

Abstract: The data collected through the FR Y-14A/Q/M schedules provide the Federal Reserve with the additional information and perspective needed to help ensure that large BHCs have strong, firm‐wide risk measurement and management processes supporting their internal assessments of capital adequacy and that their capital resources are sufficient given their business focus, activities, and resulting risk exposures. The annual Comprehensive Capital Analysis and Review (CCAR) exercise is also complemented by other Federal Reserve supervisory efforts aimed at enhancing the continued viability of large BHCs, including continuous monitoring of BHCs' planning and management of liquidity and funding resources and regular assessments of credit, market and operational risks, and associated risk management practices. Information gathered in this data collection is also used in the supervision and regulation of these financial institutions. In order to fully evaluate the data submissions, the Federal Reserve may conduct follow up discussions with or request responses to follow up questions from respondents, as needed.

The Capital Assessments and Stress Testing information collection consists of the FR Y-14A, Q, and M reports. The semi-annual FR Y-14A collects information on the stress tests conducted by BHCs, including quantitative projections of balance sheet, income, losses, and capital across a range of macroeconomic scenarios, and qualitative information on methodologies used to develop internal projections of capital across scenarios.³ The quarterly FR Y-14Q and the monthly FR Y-14M are used to support supervisory stress test models and for continuous monitoring efforts. The quarterly FR Y-14Q collects granular data on BHCs' various asset classes, including loans, securities and trading assets, and PPNR for the reporting period. The monthly FR Y-14M comprises three retail loan- and portfolio-level collections, and one detailed address matching collection to supplement two of the portfolio and loan-level collections.

³ BHCs that must re-submit their capital plan generally also must provide a revised FR Y-14A in connection with their resubmission.

6. Report title: Banking Organization System Risk Report.

Agency form number: FR Y-15.

OMB control number: 7100-0352.

Frequency: Quarterly.

Reporters: U.S. intermediate holding companies (IHCs) and BHCs with total consolidated assets of $50 billion or more, and any U.S.-based organizations identified as global systemically important banks (GSIBs) that do not otherwise meet the consolidated assets threshold for BHCs.

Estimated annual reporting hours: Initial: 4,000 hours; Ongoing: 60,952 hours.

Estimated average hours per response: Initial: 1,000 hours; Ongoing 401 hours.

Number of respondents: 38.

General description of report: This collection of information is mandatory pursuant to section 5(c) of the BHC Act (12 U.S.C. 1844(c)), section 10 of HOLA (12 U.S.C. 1467a(b), sections 8(a) and 13(a) of the International Banking Act (IBA) (12 U.S.C. 3106 and 3108(a)), sections 163 and 165 of the Dodd-Frank Act (12 U.S.C. 5363, 5365), section 604 of the Dodd-Frank Act, which amended section 5(c) of the BHC Act (12 U.S.C. 1844(c)), and section 252.153(b)(2) of Regulation YY (12 CFR 252.153(b)(2)). Except for those items subject to a delayed release, the individual data items collected on the FR Y-15 will be made available to the public for report dates beginning December 31, 2013. Though confidential treatment will not be routinely given to the financial data collected on the FR Y-15, respondents may request such treatment for any information that they believe is subject to an exemption from disclosure pursuant to sections (b)(4), (b)(6), or (b)(8) of FOIA (5 U.S.C. 522(b)(4), (b)(6), and (b)(8)).

Abstract: The FR Y-15 annual report collects systemic risk data from U.S. BHCs with total consolidated assets of $50 billion or more, and any U.S.-based organizations identified as GSIBs that do not otherwise meet the consolidated assets threshold for BHCs. The Federal Reserve uses the FR Y-15 data primarily to monitor, on an ongoing basis, the systemic risk profile of the institutions that are subject to enhanced prudential standards under section 165 of the Dodd-Frank Wall Street Reform and Consumer Protection Act (DFA).

7. Report title: Recordkeeping and Reporting Requirements Associated with Regulation Y (Capital Plans)

Agency form number: Reg Y-13.

OMB control number: 7100-0342.

Frequency: Annually.

Reporters: BHCs and IHCs.

Estimated annual reporting hours: Annual capital planning recordkeeping (225.8(e)(1)(i)), 774,800 hours; annual capital planning reporting (225.8(e)(1)(ii)), 5,200 hours; annual capital planning recordkeeping (225.8(e)(1)(iii)), 6,500 hours; data collections reporting ((225.8(e)(3)(i)-(vi)), 65,325 hours; data collections reporting (225.8(e)(4)), 2,300 hours; review of capital plans by the Federal Reserve reporting (225.8(f)(3)(i)), 240 hours; prior approval request requirements reporting (225.8(g)(1), (3), & (4)), 3,900 hours; prior approval request requirements exceptions (225.8(g)(3)(iii)(A)), 240 hours; prior approval request requirements reports (225.8(g)(6)), 240 hours.

Estimated average hours per response: Annual capital planning recordkeeping (225.8(e)(1)(i)), 11,920 hours; annual capital planning reporting (225.8(e)(1)(ii)), 80 hours; annual capital planning recordkeeping (225.8(e)(1)(iii)), 100 hours; data collections reporting ((225.8(e)(3)(i)-(vi)), 1,005 hours; data collections reporting (225.8(e)(4)), 100 hours; review of capital plans by the Federal Reserve reporting (225.8(f)(3)(i)), 16 hours; prior approval request requirements reporting (225.8(g)(1), (3), & (4)), 100 hours; prior approval request requirements exceptions (225.8(g)(3)(iii)(A)), 16 hours; prior approval request requirements reports (225.8(g)(6)), 16 hours.

Number of respondents: 65.

General description of report: This information collection is mandatory pursuant to sections 616(a) of the Dodd Frank Act, which amended section 5(b) of the BHC Act (12 U.S.C. 1844(b)), section 165 of the Dodd-Frank Act (12 U.S.C. 5365), section 5(c) of the BHC Act (12 U.S.C. 1844(c)), and section 252.153(b)(2) of Regulation YY (12 CFR 252.153(b)(2)). The capital plan information submitted by the covered BHC will consist of confidential and proprietary modeling information and highly sensitive business plans, such as acquisition plans submitted to the Federal Reserve for approval. Therefore, it appears the information will be subject to withholding under exemption 4 of the Freedom of Information Act (5 U.S.C. 552(b)(4)).

Abstract: Regulation Y (12 CFR part 225) requires large bank holding companies (BHCs) to submit capital plans to the Federal Reserve on an annual basis and to require such BHCs to request prior approval from the Federal Reserve under certain circumstances before making a capital distribution.⁴

⁴ Public Law 111-203, 124 Stat. 1376 (2010).

8. Report title: Financial Statements of U.S. Nonbank Subsidiaries Held by Foreign Banking Organizations, the Abbreviated Financial Statements of U.S. Nonbank Subsidiaries Held by Foreign Banking Organizations, and the Capital and Asset Report for Foreign Banking Organizations.

Agency form number: FR Y-6; FR Y-7; FR Y-10; FR Y-10E.

OMB control number: 7100-0297.

Frequency: FR Y-6: Annual; FR Y-7: Annual; FR Y-10: Event-generated; FR Y-10E: Event-generated.

Reporters: Bank holding companies (BHCs), U.S. intermediate holding companies (IHCs), and savings and loan holding companies (SLHCs) (collectively, holding companies), securities holding companies, foreign banking organizations (FBOs), state member banks unaffiliated with a BHC, Edge Act and agreement corporations, and nationally chartered banks that are not controlled by a BHC (with regard to their foreign investments only).

Estimated annual reporting hours: FR Y-6 initial: 130 hours; FR Y-6 ongoing: 26,549 hours; FR Y-7: 972 hours; FR Y-10 initial: 530 hours; FR Y-10 ongoing: 39,735 hours; FR Y-10E: 2,649 hours.

Estimated average hours per response: FR Y-6 initial: 10 hours; FR Y-6 ongoing: 5.5 hours; FR Y-7: 4 hours; FR Y-10 initial: 1 hour; FR Y-10 ongoing: 2.5 hours; FR Y-10E: 0.5 hours.

Number of respondents: FR Y-6 initial: 13; FR Y-6 ongoing: 4,827; FR Y-7: 243; FR Y-10 initial: 530; FR Y-10 ongoing: 5,298; FR Y-10E: 5,298.

General description of report: These information collections are mandatory as follows:

FR Y-6: Section 5(c) of the BHC Act (12 U.S.C. 1844(c)); sections 8(a) and 13(a) of the IBA (12 U.S.C. 3106 and 3108(a)); sections 11(a)(1), 25, and 25A of the Federal Reserve Act (FRA) (12 U.S.C. 248(a), 602, and 611a); and sections 113, 312, 618, and 809 of the Dodd-Frank Act (12 U.S.C. 5361, 5412, 1850a(c)(1), and 5468(b)(1)), section 165 of the Dodd-Frank Act (12 U.S.C. 5365), and section 252.153(b)(2) of Regulation YY (12 CFR 252.153(b)(2)).

FR Y-7: Sections 8(a) and 13(a) of the IBA (12 U.S.C. 3106(a) and 3108(a)) and sections 113, 312, 618, and 809 of the Dodd-Frank Act (12 U.S.C. 5361, 5412, 1850a(c)(1), and 5468(b)(1), respectively).

FR Y-10 and FR Y-10E: Sections 4(k) and 5(c)(1)(A) of the BHC Act (12 U.S.C. 1843(k), 1844(c)(1)(A)), section 8(a) of the IBA (12 U.S.C. 3106(a)), sections 11(a)(1), 25(7), and 25A of the Federal Reserve Act (12 U.S.C. 248(a)(1), 321, 601, 602, 611a, 615, and 625), and sections 113, 312, 618, and 809 of the Dodd-Frank Act (12 U.S.C. 5361, 5412, 1850a(c)(1), and 5468(b)(1), respectively).

The data collected in the FR Y-6, FR Y-7, FR Y-10, and FR Y-10E are not considered confidential. With regard to information that a banking organization may deem confidential, the institution may request confidential treatment of such information under one or more of the exemptions in the Freedom of Information Act (FOIA) (5 U.S.C. 552). The most likely case for confidential treatment will be based on FOIA exemption 4, which permits an agency to exempt from disclosure “trade secrets and commercial or financial information obtained from a person and privileged and confidential,” (5 U.S.C. 552(b)(4)). To the extent an institution can establish the potential for substantial competitive harm, such information would be protected from disclosure under the standards set forth in National Parks & Conservation Association v. Morton, 498 F.2d 765 (D.C. Cir. 1974). Exemption 6 of FOIA might also apply with regard to the respondents' submission of non-public personal information of owners, shareholders, directors, officers and employees of respondents. Exemption 6 covers “personnel and medical files and similar files the disclosure of which would constitute a clearly unwarranted invasion of personal privacy,” (5 U.S.C. 552(b)(6)). All requests for confidential treatment would need to be reviewed on a case-by-case basis and in response to a specific request for disclosure.

Abstract: The FR Y-6 is an annual information collection submitted by top-tier holding companies and non-qualifying FBOs. It collects financial data, an organization chart, verification of domestic branch data, and information about shareholders. The Federal Reserve uses the data to monitor holding company operations and determine holding company compliance with the provisions of the BHC Act, Regulation Y (12 CFR 225), the Home Owners' Loan Act (HOLA), and Regulation LL (12 CFR 238).

The FR Y-7 is an annual information collection submitted by qualifying FBOs to update their financial and organizational information with the Federal Reserve. The FR Y-7 collects financial, organizational, and managerial information. The Federal Reserve uses information to assess an FBO's ability to be a continuing source of strength to its U.S. operations, and to determine compliance with U.S. laws and regulations.

The FR Y-10 is an event-generated information collection submitted by FBOs; top-tier holding companies; security holding companies as authorized under Section 618 of the Dodd-Frank Wall Street Reform and Consumer Protection Act of 2010 (12 U.S.C. 1850a(c)(1)); state member banks unaffiliated with a BHC; Edge Act and agreement corporations that are not controlled by a member bank, a domestic BHC, or a FBO; and nationally chartered banks that are not controlled by a BHC (with regard to their foreign investments only) to capture changes in their regulated investments and activities. The Federal Reserve uses the data to monitor structure information on subsidiaries and regulated investments of these entities engaged in banking and nonbanking activities. The FR Y-10E is a free-form supplement that may be used to collect additional structural information deemed to be critical and needed in an expedited manner.

9. Report title: Risk Based Capital Standards: Advanced Capital Adequacy Framework.

Agency form number: FR 4200.

OMB control number: 7100-0313.

Frequency: On occasion.

Reporters: National banks, state member banks, Federal savings associations, U.S. intermediate holding companies (IHCs), and top-tier bank holding companies and savings and loan holding companies domiciled in the United States not subject to the Federal Reserve's Small Bank Holding Company Policy Statement (12 CFR part 225, appendix C)), except certain savings and loan holding companies that are substantially engaged in insurance underwriting or commercial activities.

Estimated annual reporting hours: Minimum capital ratios ongoing recordkeeping: 22,896 hours; standardized approach ongoing recordkeeping: 28,620 hours; standardized approach one-time recordkeeping: 174,582 hours; standardized approach ongoing disclosure: 3,281 hours; standardized approach one-time disclosure: 5,656 hours; advanced approach ongoing recordkeeping: 2,482 hours; advanced approach one-time recordkeeping: 7,140 hours; advanced approach ongoing disclosure: 595 hours; advanced approach one-time disclosure: 4,760 hours; disclosure table 13: 500 hours.

Estimated average hours per response: Minimum capital ratios ongoing recordkeeping: 16 hours; standardized approach ongoing recordkeeping: 20 hours; standardized approach one-time recordkeeping: 122 hours; standardized approach ongoing disclosure: 131.25 hours; standardized approach one-time disclosure: 226.25 hours; advanced approach ongoing recordkeeping: 146 hours; advanced approach one-time recordkeeping: 420 hours; advanced approach ongoing disclosure: 35 hours; advanced approach one-time disclosure: 280 hours; disclosure table 13: 5 hours.

Number of respondents: 1,431.

General description of report: This information collection is mandatory pursuant to section 38(o) of the Federal Deposit Insurance Act, (12 U.S.C. 1831o(c)), section 908 of the International Lending Supervision Act of 1983 (12 U.S.C. 3907(a)(1)), the Federal Reserve Act, (12 U.S.C. 324), and section 5(c) of the BHC Act (12 U.S.C. 1844(c)), and section 252.153(b)(2) of Regulation YY (12 CFR 252.153(b)(2)). If a respondent considers the information to be trade secrets and/or privileged such information could be withheld from the public under the authority of the Freedom of Information Act, 5 U.S.C. 552(b)(4). Additionally, to the extent that such information may be contained in an examination report such information maybe also be withheld from the public, 5 U.S.C. 552 (b)(8).

Abstract: The Risk Based Capital Standards: Advanced Capital Adequacy Framework Information Collection (FR 4200) collects information relating to the regulatory capital rule (12 CFR part 217). The regulatory capital rule includes a common equity tier1 minimum risk-based capital requirement, a minimum tier 1 risk-based capital requirement, a minimum total risk-based capital requirement, a minimum leverage ratio of tier 1 capital to average total consolidated assets, and, for banking organizations subject to the advanced approaches risk-based capital rules, a supplementary leverage ratio that incorporates both on- and off-balance sheet exposures. The regulatory capital rule also limits a banking organization's capital distributions and certain discretionary bonus payments to the extent that the banking organization does not hold a specified “buffer” of common equity tier 1 capital in addition to the minimum risk-based capital requirements. The FR 4200 information collection requires respondents to: (a) Obtain legal opinions for certain agreements and maintain sufficient written documentation of this legal review, (b) obtain prior written approvals for the use of certain measures or methodologies, (c) maintain policies, procedures, and programs; (d) perform due diligence, perform and document analyses, or make a demonstration to supervisors; (e) develop plans for compliance and notify supervisors of certain changes; and (f) provide certain disclosures regarding their structure, regulatory capital, the risks to which they are subject, and other aspects of their operations. These obligations arise pursuant to sections _.3, _.22, _.35, _.37, _.41, _.42, _.62, _.63, _.121 through _.124, _.132, _.141, _.142, _.153, _.171, and _.173 of the regulatory capital rule (12 CFR part 217). Under most circumstances, IHCs would not be subject to the information collection requirements associated with sections _.62, _.63, _.121 through _.124, _.132, _.141, _.142, _.153, _.171, and _.173 of the regulatory capital rule.

10. Report title: Risk-Based Capital Guidelines: Market Risk.

Agency form number: FR 4201.

OMB control number: 7100-0314.

Frequency: On occasion.

Reporters: Banking organization, including U.S. intermediate holding companies (IHCs), with aggregate trading assets and trading liabilities equal to (1) 10 percent or more of quarter-end total assets or (2) $1 billion or more.

Estimated annual reporting hours: Prior written approvals reporting: 28,800 hours; policies and procedures recordkeeping: 2,880 hours; trading and hedging strategy recordkeeping: 480 hours; internal models recordkeeping: 3,840 hours; section 4(b) backtesting and stress testing: 1,920 hours; sections 5(c) and 9(c) backtesting and stress testing: 3,120 hours; securitizations backtesting and stress testing: 14,400 hours; disclosure policy backtesting and stress testing: 1,200 hours; quantitative disclosure: 1,920 hours; qualitative disclosure: 360 hours.

Estimated average hours per response: Prior written approvals reporting: 960 hours; policies and procedures recordkeeping: 96 hours; trading and hedging strategy recordkeeping: 16 hours; internal models recordkeeping: 128 hours; section 4(b) backtesting and stress testing: 16 hours; sections 5(c) and 9(c) backtesting and stress testing: 104 hours; securitizations backtesting and stress testing: 120 hours; disclosure policy backtesting and stress testing: 40 hours; quantitative disclosure: 16 hours; qualitative disclosure: 12 hours.

Number of respondents: 30.

General description of report: This information collection is mandatory pursuant to 12 U.S.C. 324 and 12 U.S.C. 1844(c), section 165 of the Dodd-Frank Act (12 U.S.C. 5365), and section 252.153(b)(2) of Regulation YY (12 CFR 252.153(b)(2)). Information collected pursuant to the reporting requirements of the FR 4201 (specifically, information related to seeking regulatory approval for the use of certain incremental and comprehensive risk models and methodologies under sections 217.208 and 217.209) is exempt from disclosure pursuant to exemption (b)(8) of the Freedom of Information Act (FOIA) (5 U.S.C § 552(b)(8)), and exemption (b)(4) of FOIA (5 U.S.C. 552(b)(4)). Exemption (b)(8) applies because the reported information is contained in or related to examination reports. Exemption (b)(4) applies because the information provided to obtain regulatory approval of the incremental or comprehensive risk models is confidential business information the release of which could cause substantial competitive harm to the reporting company. The recordkeeping requirements of the FR 4201 require banking organizations to maintain documentation regarding certain policies and procedures, trading and hedging strategies, and internal models. These documents would remain on the premises of the banking organizations and accordingly would not generally be subject to a FOIA request. To the extent these documents are provided to the regulators, they would be exempt under exemption (b)(8), and may be exempt under exemption (b)(4). Exemption (b)(4) protects from disclosure “trade secrets and commercial or financial information obtained from a person and privileged or confidential.” The disclosure requirements of the FR 4201 do not raise any confidentiality issues because they require banking organizations to make certain disclosures public.

Abstract: The market risk rule is an integral part of the Board's regulatory capital framework. The collection of information permits the Federal Reserve to monitor the market risk profile of banking organizations that it regulates and evaluate the impact and competitive implications of the market risk rule on those banking organizations and the industry as a whole. The collection of information provides the most current statistical data available to identify areas of market risk on which to focus for onsite and offsite examinations and allows the Federal Reserve to assess and monitor the levels and components of each reporting institution's risk-based capital requirements for market risk and the adequacy of the institution's capital under the market risk rule. Finally, the collection of information contained in the market risk rule is necessary to ensure capital adequacy of banking organizations according to their level of market risk and assists banking organizations in implementing and validating the market risk framework.

Current Actions: The Federal Reserve proposes to collect financial information for U.S. Intermediate Holding Companies (IHCs) of foreign banking organizations (FBOs) for the regulatory report forms listed above, beginning with the reporting period ending on September 30, 2016, to implement the enhanced prudential standards for FBOs adopted pursuant to Subparts L, M, N, and O of Regulation YY to indicate and to certify to the Federal Reserve Board their compliance with those requirements.

With regard to the FR Y-14 series of reports, the IHC would be required to complete the FR Y-14 reports in the same manner as a BHC, and would be subject to requirements to report historical data with respect to its U.S. bank and nonbank operations. The reporting instructions provide IHCs with the submission dates for each of the FR Y-14 reports, including the onboarding filing delays that apply to certain schedules, and the requirements for reporting historical data for the FR Y-14Q Retail and PPNR schedules. IHCs will also receive this information in an onboarding memo. The historical data are necessary for the Board to perform a supervisory assessment of the capital plans of IHCs and to conduct supervisory stress tests. The Federal Reserve expects to address requirements for the Market Shock exercise, as they would apply to IHCs with significant trading activity, in a separate proposal.

However, many IHCs may have difficulty reporting historical data prior to formation of the IHC because of the structural reorganizations associated with complying with the IHC requirement. In addition, the ability of IHCs to report historical data may differ because compliance burdens may vary in complexity across IHCs. The Federal Reserve invites comment on the ability of IHCs to report historical data, including, but not limited to

• a description, with supporting detail, of any challenges that IHCs may face in providing historical data;

• specific compliance burdens for IHCs, such as issues related to systems integration or data retention policies; and

• whether an IHC would be able to report historical data if granted an extension of time, and if so, how much additional time would be needed.

Board of Governors of the Federal Reserve System, February 2, 2016.
Robert deV. Frierson,
Secretary of the Board.

[FR Doc. 2016-02230 Filed 2-4-16; 8:45 am]

BILLING CODE 6210-01-P